DEPARTMENT OF HEALTH AND HUMAN SERVICES

National Institutes of Health

National Institute of Environmental Health Sciences; Amended Notice of Meeting

Notice is hereby given of a change in the meeting of the National Institute of Environmental Health Sciences Special Emphasis Panel, June 27, 2001, 1 p.m. to June 29, 2001, 5 p.m. Nat. Institute of Environmental Health Sciences, South Campus, Building 101, Conference Room B, Research Triangle Park, NC, 27709 which was published in the Federal Register on June 7, 2001, FR 66: 30742.

The meeting will be held on July 15, 2001 from 7 p.m. to July 18, 2001 at 5 p.m. at the Hawthorne Suites, Meredith Drive, Durham, NC. The meeting is closed to the public.

Dated: June 20, 2001.
LaVerne Y. Stringfield,
Director, Office of Federal Advisory Committee Policy.

[FR Doc. 01-16345 Filed 6-28-01; 8:45 am]

BILLING CODE 4140-01-M